FEDERAL MARITIME COMMISSION

Ocean Transportation Intermediary License Revocations

The Commission gives notice that the following Ocean Transportation Intermediary licenses have been revoked pursuant to section 40901 of the Shipping Act of 1984 (46 U.S.C. 40101) effective on the date shown.

License No.: 017028NF.

Name: Protrans International, Inc.

Address: 8311 North Perimeter Road, Indianapolis, IN 46241.

Date Revoked: August 2, 2012.

Reason: Failed to maintain valid bonds.

License No.: 17921N.

Name: Global Brilliant Logistics Corp.

Address: 635-671 Executive Drive, Suite 659, Willowbrook, IL 60527.

Date Revoked: August 1, 2012.

Reason: Failed to maintain a valid bond.

License No.: 019522N.

Name: Echo Trans World, Inc.

Address: 462 7th Avenue, 14th Floor, New York, NY 10018.

Date Revoked: July 21, 2012.

Reason: Failed to maintain a valid bond.

License No.: 020268F.

Name: Express Northwest International Freight Services Inc.

Address: 18335 8th Avenue South, Seattle, WA 98148.

Date Revoked: May 6, 2012.

Reason: Voluntary surrender of license.

License No.: 022181NF.

Name: Savannah Marine Terminal, Inc. dba SMT Logistics.

Address: 380 Magazine Avenue, Savannah, GA 31415.

Date Revoked: August 9, 2012.

Reason: Failed to maintain valid bonds.

License No.: 022710N.

Name: Route 809 Freight Forward LLC.

Address: 7801 NW 66th Street, Suite C, Miami, FL 33166.

Date Revoked: August 10, 2012.

Reason: Failed to maintain a valid bond.

License No.: 023345NF.

Name: Mike Mohsen Darabi dba Donya Trading Group.

Address: 2457 Hart Avenue, Santa Clara, CA 95050.

Date Revoked: August 1, 2012.

Reason: Failed to maintain valid bonds.

Vern W. Hill,
Director, Bureau of Certification and Licensing.

[FR Doc. 2012-21413 Filed 8-29-12; 8:45 am]

BILLING CODE 6730-01-P